DEPARTMENT OF COMMERCE

International Trade Administration

Initiation of Five-Year (Sunset) Reviews; Correction

AGENCY: Enforcement and Compliance, International Trade Administration, Department of Commerce.

SUMMARY: On June 4, 2019, the Department of Commerce (Commerce) published the Initiation of Five-Year (“Sunset”) Reviews (June 4, 2019), in which Commerce inadvertently omitted Oil Country Tubular Goods from Vietnam (A-552-817) from the list of cases that initiate June 2019. This notice serves to correct the June 2019 Initiation of Five-Year (“Sunset”) Reviews Sunset Notice for the aforementioned item.

DATES: Applicable (June 1, 2019).

FOR FURTHER INFORMATION CONTACT: Brenda E. Brown, Office of AD/CVD Operations, Customs and Liaison Unit, Enforcement and Compliance, International Trade Administration, U.S. Department of Commerce, 1401 Constitution Avenue NW, Washington DC 20230; telephone: (202) 482-4735.

SUPPLEMENTARY INFORMATION: This correction notice for the advance notification of sunset reviews is being published in accordance with section 751(c) of the Act and 19 CFR 351.218 (c).

Dated: June 17, 2019.
James Maeder,
Acting Deputy Assistant Secretary for Antidumping and Countervailing Duty Operations.

[FR Doc. 2019-13254 Filed 6-20-19; 8:45 am]

BILLING CODE 3510-DS-P